DEPARTMENT OF COMMERCE

National Oceanic and Atmospheric Administration

RIN: 0648-XR81

Mid-Atlantic Fishery Management Council; Public Meetings

AGENCY: National Marine Fisheries Service (NMFS), National Oceanic and Atmospheric Administration (NOAA), Commerce.

ACTION: Notice of public meetings.

SUMMARY: The Mid-Atlantic Fishery Management Council (Council), its Executive Committee, its Law Enforcement Committee, its Protected Resources Committee, and its Surfclam and Ocean Quahog Committee will hold public meetings.

DATES: Tuesday, October 13, 2009 through Thursday, October 15, 2009. On Tuesday, October 13, the Executive Committee with the Council's Scientific and Statistical Committee (SSC) leadership and the Atlantic States Marine Fisheries Commission's (ASMFC) leadership will meet from 8:30 a.m. until 12:30 p.m. The Executive Committee with the Council's SSC leadership will meet from 1:30 p.m. until 4:30 p.m. On Wednesday, October 14 at 8:30 a.m., new Council members will be sworn into office and the Council will then elect its officers. From 8:45 a.m. until 11:30 a.m., the Council will convene to conduct its regular Business Session, receive Organizational Reports, Liaison Reports, the Executive Director's Report, and a report on the status of the Council's Fishery Management Plans (FMP's). From 12:30 p.m. until 1:30 p.m., the Council will review eligible sites for Marine Protected Area (MPA) designation and solicit public comments on such designations. The Law Enforcement Committee will meet from 1:30 p.m. until 2 p.m. The Protected Resources Committee will meet from 2 p.m. until 3 p.m. The Surfclam and Ocean Quahog Committee will meet from 3 p.m. until 4:30 p.m. On Thursday, October 15, the Executive Committee will meet from 8 a.m. until 9 a.m. The Council will convene at 9 a.m. until 10 a.m. for NOAA Catch Share Policy presentation. From 10 a.m. until 11:30 a.m. the Council will receive and discuss Committee reports. At 11:30 a.m., the Council will address continuing and new business.

ADDRESSES: Princess Royale Hotel, 9100 Coastal Highway, Ocean City, MD 21842; telephone: (410) 524-7777.

Council address: Mid-Atlantic Fishery Management Council, 300 S. New St., Room 2115, Dover, DE 19904; telephone: (302) 674-2331.

FOR FURTHER INFORMATION CONTACT: Daniel T. Furlong, Executive Director, Mid-Atlantic Fishery Management Council; telephone: (302) 674-2331 ext. 19.

SUPPLEMENTARY INFORMATION: Agenda items by day for the Council's Committees and the Council itself are: On Tuesday, October 13—the Executive Committee with the Council's SSC leadership and the ASMFC's leadership will address roles and responsibilities of the Council's SSC and the Council's and Commission's Species Monitoring Committees (MC) for “jointly managed species (these include: summer flounder, scup, black sea bass, bluefish, and dogfish), and clarify the responsibilities of the SSC and the respective MCs in terms of their respective roles in the Council's annual specification setting process. The Executive Committee with the Council's SSC leadership will address the development of a Council risk policy concerning National Standard 1 Guidelines regarding the Allowable Biological Catch (ABC) control rule. On Wednesday, October 14—new Council members will be sworn into office, the Council will elect Officers, conduct its regular Business Session, receive Organizational Reports, Council Liaison Reports, the Executive Director's Report, and a report on the status of the Council's FMPs. Following lunch there will be review of eligible sites for MPA designation and the public will be solicited for its comments about such designations. The Law Enforcement Committee will review the Fisheries Achievement Award (FAA) nominations and recommend recipient(s) for recognition. The Protected Resources Committee will review the outcome of the recent Bottlenose Dolphin (BND) Take Reduction Team meeting, review revisions to the BND stock structure and mortality estimates, and review the current information on all stocks and evaluate the BND Plan's goals for each stock. The Surfclam and Ocean Quahog Committee will review and clarify management measures to be included in Amendment 15. On Thursday, October 15—the Executive Committee will review the Council's 2010 Annual Work Plan (AWP), review highlights of the Northeast Regional Coordinating Council (NRCC) Meeting, and review the nominees for and select the recipient of the 2009 Ricks E Savage Award. The Council will then convene to receive a presentation on NOAA's Catch Share Policy by Monica Medina (NOAA's Catch Share Task Force Chairperson). The Council will also receive and discuss Committee Reports and address under continuing business the need to clarify squid control dates regarding Amendment 14 to the Squid, Mackerel, and Butterfish FMP and any other continuing or new business.

Although non-emergency issues not contained in this agenda may come before the Council for discussion, these issues may not be the subject of formal Council action during this meeting. Council action will be restricted to those issues specifically listed in this notice and any issues arising after publication of this notice that require emergency action under Section 305(c) of the Magnuson-Stevens Act, provided the public has been notified of the Council's intent to take final action to address such emergencies.

Special Accommodations

This meeting is physically accessible to people with disabilities. Requests for sign language interpretation or other auxiliary aid should be directed to M. Jan Bryan, (302) 674-2331 ext 18, at least 5 days prior to the meeting date.

Dated: September 21, 2009.
William D. Chappell,
Acting Director, Office of Sustainable Fisheries, National Marine Fisheries Service.

[FR Doc. E9-23054 Filed 9-23-09; 8:45 am]

BILLING CODE 3510-22-S